DEPARTMENT OF LABOR

Occupational Safety and Health Administration

[Docket No. OSHA-2010-0025]

Hydrostatic Testing Provision of the Standard on Portable Fire Extinguishers; Extension of the Office of Management and Budget's (OMB) Approval of Information Collection (Paperwork) Requirements

AGENCY: Occupational Safety and Health Administration (OSHA), Labor.

ACTION: Notice; correction.

SUMMARY: The Occupational Safety and Health Administration (OSHA) published a document in the Federal Register on January 9, 2024, soliciting public comments concerning the proposal to extend the Office of Management and Budget's (OMB) approval of the information collection requirements specified in the regulation on Hydrostatic Testing Provision of the Standard on Portable Fire Extinguishers. The document contained an incorrect OMB Control Number. This notice corrects this error.

DATES: This correction is effective January 31, 2024.

FOR FURTHER INFORMATION CONTACT: Seleda Perryman or Theda Kenney, Directorate of Standards and Guidance, OSHA, U.S. Department of Labor; telephone: (202) 693-2222.

SUPPLEMENTARY INFORMATION:

Correction

In the Federal Register of January 9, 2024 (89 FR 1129), correct the OMB Control Number as described below.

On page 1129—in the third column the section titled “III. Proposed Actions” listed under OMB Control Number change 1219-0218 to read:

[1218-0218].

* * * * *

Authority and Signature

James S. Frederick, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on January 25, 2024.
James S. Frederick,
Deputy Assistant Secretary of Labor for Occupational Safety and Health.

[FR Doc. 2024-01892 Filed 1-30-24; 8:45 am]

BILLING CODE 4510-26-P